DEPARTMENT OF DEFENSE

Department of the Army; Corps of Engineers

Coastal Engineering Research Board

AGENCY: Department of the Army; Corps of Engineers, DoD.

ACTION: Notice of open meeting.

SUMMARY: In accordance with Section 10(a)(2) of the Federal Advisory Committee Act (Pub. L. 92-463), announcement is made of the following committee meeting:

Name of Committee: Coastal Engineering Research Board (CERB).

Dates of Meeting: July 22-24, 2003.

Place: Embassy Suites Downtown, Chicago, IL.

Times: 8 a.m. to 5 p.m.

FOR FURTHER INFORMATION CONTACT: Inquiries and notice of intent to attend the meeting may be addressed to Mr. Thomas W. Richardson, Acting Executive Secretary, Coastal Engineering Research Board, Coastal and Hydraulics Laboratory, U.S. Army Engineer Research and Development Center, 3909 Halls Ferry Road, Vicksburg, MS 39180-6199.

SUPPLEMENTARY INFORMATION: Proposed Agenda: On Tuesday, July 22, 2003, presentations and discussions will pertain to the Monitoring Complete Navigation Projects, Coastal Field Data Collection, National Shoreline Erosion Control Development and Demonstration Program (Section 227), and the Coastal Inlets Research Program. On Wednesday, July 23, 2003, presentations and discussions will include the Flood and Coastal Systems, and on Thursday, July 24, 2003, presentations and discussions will include the Navigation Systems.

This meeting is open to the public, but since seating capacity of the meeting room is limited, advance notice of intent to attend, although not required, is requested in order to assure adequate arrangements for those wishing to attend.

Luz D. Ortiz,
Army Federal Register Liaison Officer.

[FR Doc. 03-16876 Filed 7-2-03; 8:45 am]

BILLING CODE 3710-61-M